DEPARTMENT OF DEFENSE

Department of the Navy

[No. USN-2007-0034]

Submission for OMB Review; Comment Request

ACTION: Notice.

The Department of Defense has submitted to OMB for clearance, the following proposal for collection of information under the provisions of the Paperwork Reduction Act (44 U.S.C. Chapter 35).

DATES: Consideration will be given to all comments received by October 29, 2007.

Title, Form, and OMB Number: Naval Sea Systems Command and Field Activity. Visitor Access Request; NAVSEA 5530/5; OMB Control Number 0703-TBD.

Type of Request: New.

Number of Respondents: 5,200.

Responses per Respondent: 1.

Annual Responses: 5,200.

Average Burden per Response: 15 minutes.

Annual Burden Hours: 1,300.

Needs and Uses: This collection of information provides Naval Sea Systems Command and Naval Sea Systems Command Field Activity's contractors, military and government civilians with a requirement that provides for the collection of information to ensure that only visitors with an appropriate clearance level and need-to-know are granted access to classified information. Respondents are Navy business personnel, support contractors and individuals from other agencies visiting the Command and Field Activities to discuss Navy matters.

Affected Public: Businesses or other for-profit and not-for-profit institutions.

Frequency: On occasion.

Respondent's Obligation: Voluntary.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: September 21, 2007.
Patricia L. Toppings,
Alternate OSD Federal Register Liaison Officer, Department of Defense.

[FR Doc. 07-4789 Filed 9-27-07; 8:45 am]

BILLING CODE 5001-06-M